DEPARTMENT OF COMMERCE

National Oceanic and Atmospheric Administration

[I.D. 030602D]

Antarctic Marine Living Resources Convention Act of 1984; Conservation and Management Measures

AGENCY: National Marine Fisheries Service (NMFS), National Oceanic and Atmospheric Administration (NOAA), Commerce.

ACTION: Final notice.

SUMMARY: At its Twentieth Meeting in Hobart, Tasmania, October 22 to November 2, 2001, the Commission for the Conservation of Antarctic Marine Living Resources (CCAMLR), of which the United States is a member, adopted conservation measures, pending members' approval, pertaining to fishing in the CCAMLR Convention Area in Antarctic waters. These have been agreed upon in accordance with Article IX of the Convention for the Conservation of Antarctic Marine Living Resources (the Convention) and are in effect with respect to the United States.

ADDRESSES: Copies of the CCAMLR measures and the framework environmental assessment may be obtained from the Assistant Administrator for Fisheries, NOAA, National Marine Fisheries Service, 1315 East-West Highway, Silver Spring, MD 20910.

FOR FURTHER INFORMATION CONTACT: Robin Tuttle, 301-713-2282.

SUPPLEMENTARY INFORMATION: See 50 CFR part 300, subpart G—Antarctic Marine Living Resources, and 67 FR 2477 (January 17, 2002).

The measures restrict overall catches and bycatch of certain species of fish, krill, squid, and crab; limit participation in several exploratory fisheries; restrict fishing in certain areas and to certain gear types; set fishing seasons; allow vessels in longline fisheries in Subarea 48.6 south of 60°S to use experimental line-weighting trials; amend and clarify the catch documentation scheme for Dissostichus species; amend a previously adopted measure relating to licensing and inspection obligations of Contracting Parties and cooperation between Contracting Parties; and amend a previously adopted measure on the use of automated satellite-linked vessel monitoring systems (VMS) on Contracting Party vessels fishing in the Convention Area.

In addition, the Commission adopted a resolution addressing toothfish harvests questionably attributed to FAO statistical area 51 in the Indian Ocean.

The measures and resolutions were announced by the Department of State by a preliminary notice in the Federal Register on January 17, 2002 (67 FR 2477). Public comments were invited, but none were received. Through this notice, NMFS notifies the public that the United States has accepted the measures adopted at CCAMLR's Twentieth meeting, and that pursuant to the Convention and 16 U.S.C. 2431 et seq., these measures are in effect. For the full text of the measures adopted, see 67 FR 2477, January 17, 2002. NMFS provides the following summary of the measures as a courtesy.

The Commission adopted a uniform fishing season of December 1 through November 30 for all Convention area fisheries, except as otherwise specified, e.g., to protect Convention Area species during spawning and breeding seasons. This measure includes a change in the season for krill fishing from the July 1 to June 30 season previously adopted by the Commission.

The Commission prohibited the fishery for Champsocephalus gunnari in Statistical Subarea 48.3 within 12 nautical miles of the coast of South Georgia from March 1 to May 31, 2002 during the C.gunnari spawning period and adopted a requirement that all fishing vessels taking part in the fishery in the non-restricted area during this period conduct a minimum of 20 research hauls as set out in an annex to the C. gunnari conservation measure.

Participation in the Convention Area crab fishery continues to be limited to one vessel per Commission member. Applications for a crab permit must be received no later than 90 days prior to intended harvesting and will be considered in the order of application. If there are multiple applicants, the one U.S. crab permit will be issued on the basis of (1) order of receipt of applications (2) criteria for harvesting permits appearing in 50 CFR 300.112 (3) willingness to participate in CCAMLR pilot programs and (4) record of previous participation, if any, in the crab fishery. The fishery continues to be managed as previously defined by the Commission with one amendment. The minimum legal carapace width for male Paralomis spinosissima was reduced from 102 mm to 94 mm.

The Commission amended the general measures for exploratory fishing for Dissostichus spp. to require Members who choose not to participate in an exploratory fishery prior to the commencement of the fishery to inform the Secretariat of changes in their plans no later than 1 month before the start of the fishery. If, for whatever reason, Members are unable to participate in the fishery, they shall inform the Secretariat no later than 1 week after finding that they cannot participate.

The Commission approved several fisheries as exploratory fisheries for the 2001/2002 fishing season. These fisheries are limited total allowable catch (TAC) fisheries and are open only to the flagged vessels of the countries that notified CCAMLR of an interest by participants in the fisheries. The United States was not a notifying country, and, thus, U.S. fishers are not eligible to participate in them.

The exploratory fisheries for Dissostichus species (toothfish) are for longline fishing in Statistical Subarea 48.6 by Japan, New Zealand, South Africa and Uruguay; trawl fishing in Statistical Division 58.4.2 by Australia; longline fishing in 58.4.3a (the Elan Bank) outside areas under national jurisdiction by France and Japan; longline fishing in Statistical Division 58.4.3b (the BANZARE Bank) by France and Japan; longline fishing in Statistical Division 58.4.4 by France, Japan, South Africa, and Uruguay; longline fishing in Statistical Subarea 58.6 by Chile, France, Japan and South Africa; longline fishing in Statistical Subarea 88.1 by Japan, New Zealand, Russia and South Africa; longline fishing in Statistical Subarea 88.2 by Japan, New Zealand and South Africa.

The Commission adopted a conservation measure for an exploratory trawl fishery for Chaenodraco wilsoni, Lepidonotothen kempi, Trematomus eulepidotus and Pleuragramma antarcticum in Statistical Division 58.4.2, limited to fishing by Australia.

The Commission adopted a conservation measure for a new trawl fishery for Macrourus ssp. in Statistical Division 58.4.2, limited to fishing by Australia and amended the conservation measure on the bycatch of Macrourus spp. and skates and rays to set upper limits on bycatch and require a vessel to move its fishing position should it catch more than one ton of bycatch species in a longline set or haul.

Although the Commission readopted the conservation measure for jig fishing for Martialia hyadesi (squid) in Statistical Subarea 48.3, no Member notified the Commission of its intention to fish in this fishing-by-notification-only fishery.

The Commission revised the conservation measure requiring the use of automated satellite-linked vessel monitoring in all fisheries (except the krill fishery) to require Contracting Parties to provide the Secretariat with limited positional information on movements by vessels in and out of the Convention area and between CCAMLR statistical areas, subareas and divisions. This information, available to Members by operation of the VMS requirement, must be transmitted to the Secretariat within two working days of receiving the required VMS information.

The Commission amended the conservation measure specifying aspects of cooperation among Contracting Parties requiring them to report the details of fishing licenses issued by them.

The Commission adopted a new conservation measure allowing vessels in longline fisheries in Subareas 48.6 south of 60°S to use experimental line-weighting trials in lieu of the Commission's requirement for night setting-only in Convention Area longline fisheries when a vessel can demonstrate prior to licensing its ability to fully comply with one of two trial protocols. The Commission urged two actions with respect to the enforcement of the conservation measure to minimize the incidental mortality of seabirds in the course of longline fishing or longline fishing research. The Commission recommended that vessels equipped or configured such that they are unable to comply with the measure not be allowed to fish in the Convention Area. The Commission further recommended that Members prevent vessels persistently failing to comply with the measure from fishing in the Convention Area.

The Commission revised and clarified the Dissostichus Catch Document (DCD) and created a Catch Documentation Fund (CDF) to receive voluntary contributions from the sale of seized or confiscated toothfish sold pursuant to a Specially Validated DCD (SVDCD). The DCD was revised to clarify procedures for dealing with export verification. The conservation measure creating the CDF includes the provision that, to the extent practicable, Contracting Parties shall ensure that no financial benefit arising from the sale of seized or confiscated catch of toothfish accrue to the perpetrators of illegal, unregulated or unreported fishing for toothfish. Another provision of the measure allows a Contracting Party to, consistent with its domestic legislation, decline to provide a market for toothfish offered for sale with a SVDCD by another State. The Commission also expanded and clarified the use of VMS to verify the area of toothfish harvests. Any Contracting Party, or non-Contracting Party participating in the Catch Documentation Scheme for toothfish, may now require additional verification of catch documents by Flag States by using, inter alia, VMS, in respect of catches taken on the high seas outside the Convention Area, when landed at, imported into or exported from its territory. The Commission recognized the need to revise the “Guide for Completion of Catch Documents” and requested that the Secretariat revise the Guide as agreed at the annual meeting and make it available on the CCAMLR website to all CCAMLR Members and non-Contracting Parties which have joined CCAMLR in the implementation of the CDS.

CCAMLR adopted a resolution relating to fishing in Food and Agriculture Organization (FAO) statistical area 51. The Commission, concerned that the CDS could be used to disguise IUU catches of toothfish in order to gain legal access to markets, urged States participating in the CDS to ensure that DCDs relating to landings or imports of toothfish, when necessary, are checked by contact with flag states to verify that the information in the DCD is consistent with data reports derived from an automated satellite-linked VMS. The Commission also urged States participating in the CDS, if necessary to that end, to consider reviewing their domestic laws and regulations, with a view to prohibiting, in a manner consistent with international law, landings/transhipments/imports of toothfish declared in a DCD as having been caught in FAO Statistical Area 51, if the flag state fails to demonstrate that it verified the DCD using automated satellite-linked VMS derived data reports.

Authority: 16 U.S.C. 2431 et seq.

Dated: March 1, 2002.
Rebecca Lent,
Deputy Assistant Administrator for Regulatory Programs, National Marine Fisheries Service.

[FR Doc. 02-5771 Filed 3-8-02; 8:45 am]

BILLING CODE 3510-22-S